DEPARTMENT OF THE TREASURY

Internal Revenue Service

Internal Revenue Service Advisory Council; Renewal of Charter

AGENCY: Internal Revenue Service, Department of Treasury.

ACTION: Notice of charter renewal.

SUMMARY: The Charter for the Internal Revenue Service Advisory Council (IRSAC), has been renewed for two years beginning September 30, 2024, in accordance with the Federal Advisory Committee Act (FACA).

FOR FURTHER INFORMATION CONTACT: Anna Millikan at (202) 317-6564 or send an email to publicliaison@irs.gov.

SUPPLEMENTARY INFORMATION: Notice is hereby given that the charter for the Internal Revenue Service Advisory Council (IRSAC) has been renewed for two years beginning September 30, 2024, in accordance with the Federal Advisory Committee Act (FACA), 5 U.S.C. 1001-1014.

The purpose of the IRSAC is to provide an organized public forum for discussion of relevant tax administration issues between Internal Revenue Service (IRS) officials and representatives of the public.

The IRSAC proposes enhancements to IRS operations; recommends administrative and policy changes to improve taxpayer experience and service, compliance and tax administration; discusses relevant information reporting issues; addresses matters concerning tax-exempt and government entities; conveys the public's perception of professional standards and best practices for tax professionals; and advises on fairness in tax administration.

Conveying the public's perception of IRS activities to Internal Revenue Service officials, the IRSAC is comprised of individuals representing a cross-section of the taxpaying public with substantial, disparate experience in tax preparation for individuals, small businesses and/or large, multi-national corporations; information reporting; tax-exempt and government entities; digital services; and professional standards of tax professionals.

Dated: October 8, 2024.
John A. Lipold,
Designated Federal Official, C&L Office of National Public Liaison, Internal Revenue Service.

[FR Doc. 2024-23648 Filed 10-15-24; 8:45 am]

BILLING CODE 4830-01-P